AMTRAK REFORM COUNCIL

Notice of Meeting

AGENCY: Amtrak Reform Council.

ACTION: Notice of special public business meeting in Washington, DC.

SUMMARY: As provided in section 203 of the Amtrak Reform and Accountability Act of 1997 (Reform Act), the Amtrak Reform Council (Council) gives notice of a special public meeting of the Council. On Friday, November 9, 2001, the Council will hold a Business Meeting from 10 a.m.-4 p.m. Eastern Standard Time (EST) during which time the Council members will discuss, among other issues, Amtrak's financial performance for FY 2001, the impact of the events of September 11th on Amtrak's ridership and financial performance, and their views on whether Amtrak is likely to meet the statutory self-sufficiency requirement set forth in section 204 of the Amtrak Reform and Accountability Act of 1997 (Reform Act).

DATES: The Business Meeting will be held on Friday, November 9, 2001, from 10 a.m.-4 p.m. EST. The event is open to the public.

ADDRESSES: The Business Meeting will take place in room 2230, US DOT Headquarters, (the Nassif Building), 400 7th Street, SW., Washington, DC 20590. Persons in need of special arrangements should contact the person listed below.

FOR FURTHER INFORMATION CONTACT: Deirdre O'Sullivan, Amtrak Reform Council, Room 7105, JM-ARC, 400 Seventh Street, SW., Washington, DC 20590, or by telephone at (202) 366-0591; FAX: 202-493-2061. For information regarding ARC's upcoming events, the agenda for meetings, the ARC's Second Annual Report, information about ARC Council Members and staff, and much more, you can also visit the Council's website at www.amtrakreformcouncil.gov.

SUPPLEMENTARY INFORMATION: The ARC was created by the Amtrak Reform and Accountability Act of 1997 (Reform Act), as an independent commission, to evaluate Amtrak's performance and to make recommendations to Amtrak for achieving further cost containment, productivity improvements, and financial reforms. In addition, the Reform Act provides: that the Council is to monitor cost savings from work rules established under new agreements between Amtrak and its labor unions; that the Council submit an annual report to Congress that includes an assessment of Amtrak's progress on the resolution of productivity issues; and that, after a specified period, the Council has the authority to determine whether Amtrak can meet certain financial goals specified under the Reform Act and, if it finds that Amtrak cannot, to notify the President and the Congress.

The Reform Act prescribes that the Council is to consist of eleven members, including the Secretary of Transportation and ten others nominated by the President and the leadership of the Congress. Members serve a five-year term.

Issued in Washington, DC on October 23, 2001.
Thomas A. Till,
Executive Director.

[FR Doc. 01-27092 Filed 10-25-01; 8:45 am]

BILLING CODE 4910-06-P